DEPARTMENT OF COMMERCE

National Oceanic and Atmospheric Administration

Agency Information Collection Activities; Submission to the Office of Management and Budget (OMB) for Review and Approval; Comment Request; Pacific Coast Groundfish Trawl Rationalization Program Permit and License Information Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 7, 2025, during a 60-day comment period. This notice allows for an additional 30 days for public comments.

Agency: National Oceanic and Atmospheric Administration (NOAA), Commerce.

Title: Pacific Coast Groundfish Trawl Rationalization Program Permit and License Information Collection.

OMB Control Number: 0648-0620.

Form Number(s): None.

Type of Request: Regular submission (revision and extension of a current information collection).

Number of Respondents: 359 unique respondents.

Average Hours per Response: QS Permit/Account Application & Renewal—10 minutes; First Receiver Site License Application Form: New Entrants—200 minutes; Mothership Permit Renewal Form—10 minutes; Mothership Permit Change of Vessel—35 minutes; Catcher/Processor Cooperative Permit Application Form—110 minutes; Mothership Cooperative Permit Application Form—230 minutes; Material Change to COOP—150 minutes; Trawl Identification of Ownership Interest Form: Renewal—3 minutes; Trawl Identification of Ownership Interest Form: New Entrants—45 minutes; Vessel Account Registrations & Renewal—11 minutes; QP Transfer from QS Account to Vessel Account—5 minutes; QP Transfer from Vessel Account to Vessel Account—5 minutes; Change of MS/CV-Endorsement—35 minutes; QS Transfer, QS Abandonment Request, and Shore based Scales/First Receivers Scale Reports—10 minutes; First Receiver Site License Application Form: Re-Registration—100 minutes.

Total Annual Burden Hours: 645 hours.

Needs and Uses: This request is for a revision and extension of a current information collection.

The Magnuson-Stevens Fishery Conservation and Management Act (MSA), 16 U.S.C. 1801 et seq., authorizes Fishery Management Councils to prepare and amend fishery management plans (FMP) for any fishery in waters under its jurisdiction. The National Oceanic and Atmospheric Administration (NOAA) National Marine Fisheries Service (NMFS) manages the groundfish fishery in the Exclusive Economic Zone (EEZ), the area 3-200 mile zone off the Washington, Oregon, and California coasts.

The Pacific Fishery Management Council (Council) began developing a trawl rationalization program, a catch share program, for the Pacific coast groundfish limited entry trawl fishery in 2003. The program is composed of three sectors, as follows: (1) the shore based individual fishing quota (IFQ) sector, (2) the at-sea whiting mothership (MS) sector, and (3) the at-sea whiting catcher/processor (C/P) sector. The shore based IFQ sector consists of quota share (QS) permit owners, catcher vessels that are registered to limited entry trawl permits, have vessel accounts, fish for quota pounds (QP), and first receiver site license (FRSL) holders who receive the shore based IFQ landings. The at-sea trawl fleets catch and process Pacific whiting (whiting) with midwater trawl gear. In the MS sector, mothership catcher vessels (MS/CVs) harvest the whiting and deliver the catch to large MS vessels, where it is sorted and processed at-sea. One or more MS coops may form and/or vessels may fish in a non-cooperative fishery. Both coop and non-coop fishery vessels pool their harvest together. In the C/P sector, C/P vessels catch and process whiting at-sea under a single C/P coop.

This revision will include the removal of three ICs: Catch monitoring plans/First Receivers Preparation & Submission, Catch monitoring plans/First Receivers Inspection, & Shore based scales/First Receivers Inspection. The removal of these ICs is necessary because they are encompassed in the First Receiver Site License Application Form. This action decreases the duplicate actions and burden to fill out said forms.

Affected Public: Individuals or households; Business or other for-profit organizations; Not-for-profit institutions.

Frequency: On occasion, annually, quarterly, or once depending on the form.

Respondent's Obligation: Required to Obtain or Retain Benefits.

Legal Authority: Pub. L. 94-265 Sec. 303 Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0620.

Sheleen Dumas,
Departmental PRA Compliance Officer, Office of the Under Secretary for Economic Affairs, Commerce Department.

[FR Doc. 2026-01275 Filed 1-22-26; 8:45 am]

BILLING CODE 3510-22-P